DEPARTMENT OF THE INTERIOR

National Park Service

[NPS-WASO-NAGPRA-NPS0031768; PPWOCRADN0-PCU00RP14.R50000]

Notice of Intent To Repatriate Cultural Items: American Museum of Natural History, New York, NY

AGENCY: National Park Service, Interior.

ACTION: Notice.

SUMMARY: The American Museum of Natural History (AMNH), in consultation with the appropriate Indian Tribes or Native Hawaiian organizations, has determined that the cultural items listed in this notice meet the definition of objects of cultural patrimony. Lineal descendants or representatives of any Indian Tribe or Native Hawaiian organization not identified in this notice that wish to claim these cultural items should submit a written request to the American Museum of Natural History. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the American Museum of Natural History at the address in this notice by May 27, 2021.

ADDRESSES: Nell Murphy, American Museum of Natural History, Central Park West at 79th Street, New York, NY 10024, telephone (212) 769-5837, email nmurphy@amnh.org.

SUPPLEMENTARY INFORMATION: Notice is here given in accordance with the Native American Graves Protection and Repatriation Act (NAGPRA), 25 U.S.C. 3005, of the intent to repatriate cultural items under the control of the American Museum of Natural History, New York, NY, that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1911, Rudolf Rasmessen, a Tucson-based curio dealer, gifted two Vikita ceremonial items—a bull roarer and a set of cocoon rattles—to the AMNH. The bull roarer is constructed of two flat pieces of saguaro cactus ribs connected by a heavy cord, and it exhibits the remnants of a black paint stripe on top and fainter black markings on the body. The rattle consists of two long strands of the inner casings of silkworm moth cocoons filled with pebbles.

In 1911, Carl Lumholtz, a Norwegian naturalist, sold 107 Vikita ceremonial items to the AMNH. Between 1909 and 1910, Lumholtz was commissioned by private individuals to explore northwestern Sonora, Mexico and southwestern Arizona, and he sold the items he collected during these expeditions to the AMNH. The 107 items include 20 masks (14 Singer Masks, five Clown or Nawichu Masks, one boy's mask), one Clown's Plume, one Clown's medicine plume, two pairs of sandals, two Clown saguaro sticks, four Clown quivers, three Clown bows, 15 Clown arrows, two Clown knives, five Clown belts, three Clown tobacco pouches, two Clown bracelets, two bells, one stick with bird figure, one Víkita drinking gourd, eight strings of shells, two ceremonial sticks, one Víkita corn offering, 13 bullroarers, one cloud symbol and 18 rattles (one gourd rattle and 17 Cocoon Rattles).

According to Lumholtz, a man named Simon served as one of his informants when he visited Santa Rosa, Arizona. Simon eventually sold Lumholtz his own complete Clown or nawichu outfit. This outfit includes the following 16 items: One Clown mask; one belt; one quiver; four Clown's arrows; one Clown's knife; two strings of shells; one set of ankle rattles; two bells; one pair of sandals; one Clown's bow; and one saguaro stick. Additionally, Lumholtz recorded that he purchased one Clown mask from a medicine man in Kav Vaxia (Badger's Well) and one Clown mask from a medicine man named Tia Yimika Kass (spelling unclear). Simon's outfit and the two Clown masks that Lumholtz acquired from the medicine men are part of the 107 Vikita items described below.

Five of the 20 masks that the AMNH purchased from Lumholtz are Clown or Nawichu masks, which resemble hoods and feature large plumes, primarily from turkeys, hawks, and black sea birds. The canvas faces are pierced to reveal two eye holes and are decorated with painted chevron motifs representing clouds. A pair of long horns constructed from cat's claw and capped with downy feathers extend from the top of each headdress. Horsehair braids fall down the sides of each Clown mask, and a long textile train descends the back. Fourteen masks are Singer masks, and are made of painted gourds. The top portions of the masks are decorated with red ochre, followed by a central black band made of a mixture of mesquite sap and iron oxide, and a lower, white section consisting of chalk. Eight Singer masks feature yarn tassels, and one Singer mask has a ribbon tassel. Seven Singer masks include a row of blue triangles painted just below the central black band. One of the 20 masks is described in Museum records as a boy's feast mask. It is made of fringed canvas and is worn like a hood. A rectangle painted on the canvas frames a face made of two eye holes, hide ears, and a gourd nose. The mask also features a top knot of matted wool with a heavy clay paint coating. The one Clown's plume consists of a circle of turkey feathers. The one Clown's medicine plume is constructed of two turkey tail feathers bound together at the quills. The two pairs of sandals have leather soles and hide thongs. The two Clown saguaro sticks are made of saguaro ribs crossed with short pieces of greasewood. The three Clown bows are made from gnarled mesquite root and string; one of the bows exhibits traces of pigment. The first of the four Clown quivers is made of canvas with a fringe down the back and is adorned with a bundle of feathers. The second quiver is made of canvas and is adorned with two triangular pieces of canvas that are painted with a red zigzag design. The third quiver, which belonged to Simon, is covered with animal fur, and is adorned with three strips of cloth. The fourth quiver is constructed entirely from the body of a wild cat. The 15 Clown arrows are carved from saguaro cactus ribs. They are painted and adorned with turkey feathers. The two Clown knives are carved from wood to resemble a machete. The two Clown bracelets are made from animal hide; one is tied together with red string and the other has traces of fur. The five Clown belts are constructed of canvas which bear traces of red pigment and are festooned with rattles of empty metal gun cartridges worn at the back. The fifth Clown belt is distinguished from the other four by a strip of red cloth onto which is sewn a strip of metal diamonds. The first of the three Clown tobacco pouches is constructed of hide and decorated with black paint in a design that resembles ribs. The second tobacco pouch is made of canvas with a fringed front flap painted with four rows of red triangles and finished with a row of rattles of empty metal gun cartridges. The third tobacco pouch is made of hide with black cloth up the side seams. The eight strings of shells are made with seashells. The two ceremonial or prayer sticks are carved from a desert bush. They are painted blue and adorned with turkey feathers. The one Vikita corn offering consists of a stick painted red with white dots representing corn. The one gourd has a hole from which to drink liquid. The two metal bells are held together with string. The one bird figure consists of a swallow figurine carved from yucca root and painted blue. A small hole on its belly fits snugly on a long stick made from desert willow. The 13 bullroarers are constructed of two flat pieces of saguaro cactus ribs connected by a heavy cord and painted with geometric designs. The one cloud symbol is constructed of twigs in the shape of an isosceles triangle with two handles on the side. One of the 19 rattles is a gourd filled with small pebbles and perforated with a notched wooden handle. Eighteen of the 19 rattles are worn around the ankles. They are made of the inner casings of silkworm moth cocoons that have been filled with pebbles and then stitched onto a piece of leather or dark cloth.

Based on the Museum's records and consultation with representatives of the Tohono O'odham Nation of Arizona, these 109 ceremonial items which were collected in Arizona and catalogued as Papago, are culturally affiliated with the Tohono O'odham Nation of Arizona. Evidence from museum records, scholarly publications, and information provided during consultation indicates that these 109 items were used during the Víkita Ceremony, also called the “Great Harvest Festival” and “Prayerstick Festival,” which is regarded as one of the great ritual dramas of the Tohono O'odham people and historically, has been performed every four years. These Vikita ceremonial items have ongoing historical, traditional, and cultural importance to the Tohono O'odham Nation of Arizona, and no individual had the right to alienate them.

Determinations Made by the American Museum of Natural History

Officials of the American Museum of Natural History have determined that:

• Pursuant to 25 U.S.C. 3001(3)(D), the 109 cultural items described above have ongoing historical, traditional, or cultural importance central to the Native American group or culture itself, rather than property owned by an individual.

• Pursuant to 25 U.S.C. 3001(2), there is a relationship of shared group identity that can be reasonably traced between the objects of cultural patrimony and the Tohono O'odham Nation of Arizona.

Additional Requestors and Disposition

Lineal descendants or representatives of any Indian Tribe or Native Hawaiian organization not identified in this notice that wish to claim these cultural items should submit a written request with information in support of the claim to Nell Murphy, American Museum of Natural History, Central Park West at 79th Street, New York, NY 10024, telephone (212) 769-5837, email nmurphy@amnh.org, by May 27, 2021. After that date, if no additional claimants have come forward, transfer of control of the objects of cultural patrimony to the Tohono O'odham Nation of Arizona may proceed.

The American Museum of Natural History is responsible for notifying the Tohono O'odham Nation of Arizona that this notice has been published.

Dated: April 19, 2021.
Melanie O'Brien,
Manager, National NAGPRA Program.

[FR Doc. 2021-08768 Filed 4-26-21; 8:45 am]

BILLING CODE 4312-52-P